DEPARTMENT OF JUSTICE

Notice of Lodging of Consent Decree Under the Emergency Planning and Community Right-To-Know Act, the Clean Water Act, the Resource Conservation and Recovery Act, the Federal Insecticide, Fungicide, and Rodenticide Act, the Comprehensive Environmental Response, Compensation, and Liability Act, the Safe Drinking Water Act, and the Clean Air Act

Under 28 CFR 50.7, notice is hereby given that on April 13, 2009, a proposed Consent Decree in United States, et al. v. INVISTA, S.à r.l, Civil Action Number 1:09-cv-00244, was lodged with the United States District Court for the District of Delaware. The Consent Decree resolves claims against INVISTA S.à r.l. (“INVISTA”) brought by the United States on behalf of the U.S. Environmental Protection Agency (“EPA”) under the Emergency Planning and Community Right-to-Know Act (EPCRA), 42 U.S.C. 11001 to 11050; the Clean Water Act (CWA), 42 U.S.C. 1251 to 1387; the Resource Conservation and Recovery Act (RCRA), 42 U.S.C. 6901 to 6992k; the Federal Insecticide, Fungicide, and Rodenticide Act (FIFRA), 7 U.S.C. 136 to 136y; Section 103(a) of the Comprehensive Environmental Response, Compensation, and Liability Act (CERCLA), 42 U.S.C. 9603(a); the Safe Drinking Water Act (SDWA), 42 U.S.C. 300f to 300j-26; and the Clean Air Act (CAA), 42 U.S.C. 7401 to 7671q (hereinafter “Environmental Requirements”). The Consent Decree also resolves the claims against INVISTA brought by the State of Delaware Department of Natural Resources and Environmental Control, the State of South Carolina Department of Health and Environmental Control, and the Chattanooga-Hamilton County Air Pollution Control Board.

In this action, the United States seeks civil penalties and injunctive relief for the violations of Environmental Requirements identified in Appendices A, B, and C to the lodged Consent Decree that INVISTA voluntarily identified to the EPA after conducting its compliance management system and a series of comprehensive audits of facilities that INVISTA acquired in April 2004 from E.I. du Pont de Nemours and Company. The facilities covered by these allegations are located at Athens, GA; Calhoun, GA; Camden, SC; Chattanooga, TN; Dalton, GA; Kinston, NC; LaPorte, TX; Martinsville, VA; Orange (also called Sabine), TX; Seaford, DE; Victoria, TX; and Waynesboro, VA.

The settlement resolves the violations that are set forth in Appendices A, B, and C to the Consent Decree. INVISTA has certified in the Decree that it has corrected the violations alleged in Appendix A. INVISTA has agreed to implement injunctive relief measures to resolve the alleged Clean Air Act violations in Appendices B and C under: the Prevention of Significant Deterioration and/or New Source Review program at the Seaford, Chattanooga, Victoria, and Camden Facilities; the Benzene National Emissions Standards for Hazardous Air Pollutants program for the Orange and Victoria Facilities; the Leak Detection and Repair program for the Orange and Victoria Facilities; and the New Source Performance Standards program for the Orange Facility.

The Department of Justice will receive, for a period of 30 days from the date of this publication, comments relating to the proposed Consent Decree. Comments should be addressed to the Assistant Attorney General for the Environment and Natural Resources Division, and either e-mailed to pubcomment-ees.enrd@usdoj.gov or mailed to P.O. Box 7611, U.S. Department of Justice, Washington, DC 20044-7611, and should refer to United States et al. v. INVISTA, S.à r.l, DOJ Ref. No. 90-5-2-1-08892.

The proposed Consent Decree along with the Appendices and relevant excerpts of the Final Audit Report referenced therein may be examined at the Enforcement and Compliance Docket Information Center in the EPA Docket Center (EPA/DC), EPA West, Room B 3334, 1301 Constitution Avenue, NW., Washington, DC. The EPA Docket Center Public Reading Room is open from 8:30 a.m. to 4:30 p.m., Monday through Friday, excluding legal holidays. The telephone number for the Reading Room is (202) 566-1744, and the telephone number for the Enforcement and Compliance Docket is (202) 566-1927. During the public comment period, the proposed Consent Decree may also be examined on the following Department of Justice Web site, http://www.usdoj.gov/enrd/Consent_Decree.html. A copy of the proposed Consent Decree may be obtained by mail from the Consent Decree Library, P.O. Box 7611, U.S. Department of Justice, Washington, DC 20044-7611 or by faxing or e-mailing a request to Tonia Fleetwood (tonia.fleetwood@usdoj.gov), fax number (202) 514-0097, phone confirmation number (202) 514-1547. In requesting a copy of the Consent Decree (without appendices) from the Consent Decree Library, please enclose a check in the amount of $6.75 (.25 cents per page reproduction costs), payable to the U.S. Treasury.

Maureen Katz,
Assistant Section Chief, Environmental Enforcement Section, Environment and Natural Resources Division.

[FR Doc. E9-8755 Filed 4-15-09; 8:45 am]

BILLING CODE 4410-15-P